DEPARTMENT OF ENERGY

Federal Energy Regulatory Commission

[Docket No. CP25-167-000]

Golden Triangle Storage, LLC; Notice of Schedule for the Preparation of an Environmental Assessment for the Spindletop Expansion Project

On March 31, 2025, Golden Triangle Storage, LLC (GTS) filed an application in Docket No. CP25-167-000 requesting a Certificate of Public Convenience and Necessity pursuant to section 7(c) of the Natural Gas Act to construct and operate certain natural gas storage facilities. The proposed project is known as the Spindletop Expansion Project (Project), and would involve expansion of an existing natural gas storage facility. The Project would add 30.75 billion cubic feet (Bcf) of working gas and 24.2 Bcf of base gas capacity storage.

On April 10, 2025, the Federal Energy Regulatory Commission (Commission or FERC) issued its Notice of Application for the Project. Among other things, that notice alerted agencies issuing Federal authorizations of the requirement to complete all necessary reviews and to reach a final decision on a request for a Federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EAXX-019-20-000-1746452768.

Schedule for Environmental Review

Issuance of EA—October 3, 2025

90-day Federal Authorization Decision Deadline ²—January 1, 2026

² The Commission's deadline applies to the decisions of other Federal agencies, and State agencies acting under federally delegated authority, that are responsible for Federal authorizations, permits, and other approvals necessary for proposed projects under the Natural Gas Act. Per 18 CFR 157.22(a), the Commission's deadline for other agency's decisions applies unless a schedule is otherwise established by Federal law.

If a schedule change becomes necessary, additional notice will be provided so that the relevant agencies are kept informed of the Project's progress.

Project Description

GTS proposes to expand its existing Spindletop natural gas storage facility in Jefferson County, Texas. According to GTS, its Project would enhance customers' ability to move natural gas to and from storage on very short notice and at high rates of flow.

The Spindletop Expansion Project would consist of the following facilities:

• development and operation of four new salt dome natural gas storage caverns;

• surface development of temporary and permanent well pad sites for the new caverns;

• construction and operation of facilities related to the new caverns, including injection/withdrawal pipelines, water and brine piping, and various appurtenances;

• construction and operation of a new compressor building housing ten 5,500 horsepower (hp) natural gas-driven compressor units (totaling 55,000 hp) on the existing Central Storage Site; and

• construction of new permanent access roads.

Background

On May 5, 2025, the Commission issued a “Notice of Scoping Period Requesting Comments on Environmental Issues for the Proposed Spindletop Expansion Project” (Notice of Scoping). The Notice of Scoping was sent to affected landowners; Federal, State, and local government agencies; elected officials; environmental and public interest groups; Native American Tribes; other interested parties; and local libraries and newspapers. In response to the Notice of Scoping, the Commission received a comment from Tri-Con, Inc., a petroleum and lubricant distributor located near the Project. Tri-Con commented that the proposed Project may exacerbate drainage and flooding issues that have damaged Tri-Con's facility in the past and requested that GTS complete a hydrologic and hydraulic analysis of the proposed changes to the property that would result from the Project. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP25-167), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: May 29, 2025.
Debbie-Anne A. Reese,
Secretary.

[FR Doc. 2025-10177 Filed 6-3-25; 8:45 am]

BILLING CODE 6717-01-P